DEPARTMENT OF TRANSPORTATION

Federal Aviation Administration

[Policy Statement No. PS-ANM100-2003-10019]

Evaluating a Seat Armrest Cavity for a Potential Fire Hazard

AGENCY: Federal Aviation Administration (FAA), DOT.

ACTION: Notice of final policy.

SUMMARY: The Federal Aviation Administration (FAA) announces the availability of final policy on evaluating a seat armrest cavity for a potential fire hazard.

DATES: This final policy was issued by the Transport Airplane Directorate on July 14, 2004.

FOR FURTHER INFORMATION CONTACT: Michael T. Thompson, Federal Aviation Administration, Transport Airplane Directorate, Transport Standards Staff, Airframe and Cabin Safety Branch, ANM-115, 1601 Lind Avenue, SW., Renton, WA 98055-4056; telephone (425) 227-1157; fax (425) 227-1232; e-mail: michael.t.thompson@faa.gov.

SUPPLEMENTARY INFORMATION:

Disposition of Comments

A notice of proposed policy was published in the Federal Register on February 3, 2004 (69 FR 5242). Two (2) commenters responded to the request for comments, and indicated their concurrence with the proposed policy.

Background

Due to concerns about trapped waste material being a potential fire hazard, the FAA requested seat armrest cavities be either completely enclosed or have an open bottom. Subsequent FAA research determined that for typical armrest cavities, these conditions do not need to be met to prevent a fire hazard. The policy proposed on February 3, 2004, would change the earlier FAA position that armrest cavities be enclosed or open at the bottom.

The final policy as well as the disposition of comments received is available on the Internet at the following address: http://www.airweb.faa.gov/rgl. If you do not have access to the Internet, you can obtain a copy of the policy be contacting the person listed under for further information contact.

Issued in Renton, Washington, on July 14, 2004.
Ali Bahrami,
Manager, Transport Airplane Directorate, Aircraft Certification Service.

[FR Doc. 04-16848 Filed 7-22-04; 8:45 am]

BILLING CODE 4910-13-M